DEPARTMENT OF COMMERCE

International Trade Administration

[C-560-843]

Frozen Warmwater Shrimp From Indonesia: Final Negative Countervailing Duty Determination

AGENCY: Enforcement and Compliance, International Trade Administration, Department of Commerce.

SUMMARY: The U.S. Department of Commerce (Commerce) determines that countervailable subsidies are not being provided to producers and exporters of frozen warmwater shrimp (shrimp) from Indonesia. The period of investigation is January 1, 2022, through December 31, 2022.

DATES: Applicable October 28, 2024.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On April 1, 2024, Commerce published its Preliminary Determination in the Federal Register and invited interested parties to comment.¹ In the Preliminary Determination, and in accordance with section 705(a)(1) of the Tariff Act of 1930, as amended (the Act), and 19 CFR 351.210(b)(4), Commerce aligned this final countervailing duty (CVD) determination with the final antidumping duty (AD) determinations of frozen warmwater shrimp from Ecuador and Indonesia.² On July 22, 2024, Commerce tolled certain deadlines in this administrative proceeding by seven days.³ The deadline for the final determination is now October 21, 2024.

¹ See Frozen Warmwater Shrimp from Indonesia: Preliminary Negative Countervailing Duty Determination, and Alignment of Final Determination With the Final Antidumping Duty Determination, 89 FR 22383 (April 1, 2024) (Preliminary Determination), and accompanying Preliminary Decision Memorandum (PDM).

² Id., 89 FR 22384.

³ See Memorandum, “Tolling of Deadlines for Antidumping and Countervailing Duty Proceedings,” dated July 22, 2024.

A summary of the events that occurred since Commerce published the Preliminary Determination may be found in the Issues and Decision Memorandum.⁴ The Issues and Decision Memorandum is a public document and is made available to the public via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Negative Determination in the Countervailing Duty Investigation of Frozen Warmwater Shrimp from Indonesia,” dated concurrently with, and hereby adopted by, this notice (Issues and Decision Memorandum).

Scope of the Investigation

The merchandise covered by this investigation is shrimp from Indonesia. For a complete description of the scope of this investigation, see Appendix I.

Scope Comments

We received no comments from interested parties on the scope of the investigation as it appeared in the Preliminary Determination. Therefore, we made no changes to the scope of the investigation.

Verification

As provided in section 782(i) of the Act, in May 2024, we conducted verifications of information submitted by the Government of Indonesia (GOI), PT. Bahari Makmur Sejati (BMS), PT. First Marine Seafoods (First Marine),⁵ and BMS and First Marine's unaffiliated farmer-suppliers for use in our final determination. We used standard verification procedures, including an examination of relevant accounting records and original source documents provided by the GOI, BMS, First Marine, and the farmer-suppliers.⁶

⁵ Commerce determined that First Marine is cross-owned with PT Khom Foods. Hereinafter, both companies are collectively referred to as First Marine, unless stated otherwise.

⁶ See Memoranda, “Verification of the Government of Indonesia Questionnaire Responses,” dated August 19, 2024; “Verification of the Questionnaire Responses of PT First Marine Seafoods,” dated August 9, 2024; “Verification of the Questionnaire Responses of PT. First Marine Seafoods' Unaffiliated Farmer-Supplier's Questionnaire Responses,” dated August 9, 2024; “Verification of the Questionnaire Responses of PT Bahari Makmur Sejati,” dated August 23, 2024; and “Verification of the Questionnaire Responses of BMS's Unaffiliated Farmer-Suppliers,” dated August 23, 2024.

Analysis of Subsidy Programs and Comments Received

The subsidy programs under investigation, and the issues raised in the case and rebuttal briefs that were submitted by interested parties in this investigation are discussed in the Issues and Decision Memorandum. For a list of the issues raised by interested parties and addressed in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.⁷ For a full description of the methodology underlying our final determination, see the Issues and Decision Memorandum.

⁷ See sections 771(5)(B) and (D) of the Act regarding financial contribution; see also section 771(5)(E) of the Act regarding benefit; and section 771(5A) of the Act regarding specificity.

Changes Since the Preliminary Determination

Based on our analysis of the comments received from interested parties and our verification findings, we made certain changes to the subsidy rate calculations for BMS. For a discussion of these changes, see the Issues and Decision Memorandum.

Final Determination

Commerce determines that the following estimated countervailable subsidy rates exist:

Company | Subsidy rate (percent ad valorem)
PT. Bahari Makmur Sejati ⁸ | 0.20 (de minimis).
PT. First Marine Seafoods/PT Khom Foods ⁹ | 0.71 (de minimis).

Disclosure

⁸ As discussed in the PDM, Commerce determined that PT Bahari Makmur Sejati is cross-owned with input suppliers PT International Packaging Manufacturing and PT Total Pack Indonesia.

⁹ As discussed in the PDM, Commerce determined that PT First Marine Seafoods is cross-owned with PT Khom Foods, a producer/distributor of subject merchandise.

We intend to disclose to interested parties the calculations and analysis performed in this final determination within five days of any public announcement or, if there is no public announcement, within five days of the date of publication of this notice in accordance with 19 CFR 351.224(b).

Suspension of Liquidation

In the Preliminary Determination, the total net countervailable subsidy rates for the individually examined respondents were de minimis and, therefore, we did not suspend liquidation of entries of frozen warmwater shrimp from Indonesia.¹⁰ Because Commerce determines that no countervailable subsidies are being provided to the production or exportation of subject merchandise, Commerce will not direct U.S. Customs and Border Protection to suspend liquidation of any such entries.

¹⁰ See Preliminary Determination, 89 FR 22384.

International Trade Commission (ITC) Notification

In accordance with section 705(d) of the Act, Commerce will notify the ITC of our final determination that countervailable subsidies are not being provided to producers and exporters of shrimp from Indonesia. Because the final determination is negative, this proceeding is terminated in accordance with section 705(c)(2) of the Act.

Administrative Protective Order (APO)

This notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: October 21, 2024.
Ryan Majerus,
Deputy Assistant Secretary for Policy and Negotiations, performing the non-exclusive functions and duties of the Assistant Secretary for Enforcement and Compliance.

Appendix I

Scope of the Investigation

The scope of this investigation includes certain frozen warmwater shrimp and prawns whether wild-caught (ocean harvested) or farm-raised (produced by aquaculture), head-on or head-off, shell-on or peeled, tail-on or tail-off, deveined or not deveined, cooked or raw, or otherwise processed in frozen form. “Tails” in this context means the tail fan, which includes the telson and the uropods.

The frozen warmwater shrimp and prawn products included in the scope, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope. In addition, food preparations, which are not “prepared meals,” that contain more than 20 percent by weight of shrimp or prawn are also included in the scope.

Excluded from the scope are: (1) breaded shrimp and prawns (HTSUS subheading 1605.21.1020); (2) shrimp and prawns generally classified in the Pandalidae family and commonly referred to as coldwater shrimp, in any state of processing; (3) fresh shrimp and prawns whether shell-on or peeled (HTSUS subheadings 0306.36.0020 and 0306.36.0040); (4) shrimp and prawns in prepared meals (HTSUS subheadings 1605.21.0500 and 1605.29.0500); (5) dried shrimp and prawns; (6) canned warmwater shrimp and prawns (HTSUS subheading 1605.29.1040); and (7) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by the scope are currently classified under the following HTSUS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.1030, and 1605.29.1010. These HTSUS subheadings are provided for convenience and for customs purposes only and are not dispositive, but rather the written description of the scope is dispositive.

Appendix II

List of Topics Discussed in the Issues and Decision Memorandum

I. Summary

II. Background

III. Changes from the Preliminary Determination

IV. Subsidies Valuation

V. Analysis of Programs

VI. Discussion of the Issues

Comment 1: Whether Commerce Should Apply Adverse Facts Available (AFA) To Countervail the Provision of Water or Port Facilities to First Marine

Comment 2: Whether Commerce Should Apply AFA To Countervail Export Financing From the Export-Import Bank of Indonesia (Eximbank)

Comment 3: Whether Commerce Should Apply Total AFA to the GR 55/2022 and Article 31E Income Tax Reduction Programs

Comment 4: Whether Commerce Should Correct the Benefit Calculations Under the Government Regulation 55/2022 and Article 31E Income Tax Reduction Programs

Comment 5: Whether Commerce Should Make Corrections to the Sales Denominators Used To Calculate the Ad Valorem Subsidy Rates

VII. Recommendation

[FR Doc. 2024-24954 Filed 10-25-24; 8:45 am]

BILLING CODE 3510-DS-P